DEPARTMENT OF COMMERCE

International Trade Administration

[A-570-898]

Chlorinated Isocyanurates From the People's Republic of China: Extension of Time Limit for Preliminary Results of Antidumping Duty New Shipper Review

AGENCY: Import Administration, International Trade Administration, Department of Commerce.

DATES: Effective Date: July 15, 2011.

FOR FURTHER INFORMATION CONTACT: Jun Jack Zhao or Mark Hoadley, AD/CVD Operations, Office 6, Import Administration, International Trade Administration, Department of Commerce, Room 7866, 14th Street and Constitution Avenue, NW., Washington DC 20230; telephone: (202) 482-1396 and (202) 482-3148, respectively.

Background

On January 31, 2011, the Department of Commerce (the Department) initiated a new shipper review under the antidumping duty order on chlorinated isocyanurates from the People's Republic of China for Heze Huayi Chemical Co., Ltd. The period of review (POR) is June 1, 2010, through December 31, 2010. See Chlorinated Isocyanurates From the People's Republic of China: Initiation of New Shipper Review, 76 FR 6399 (February 4, 2011). The current deadline for the preliminary results is July 30, 2011.

Extension of Time Limit for the Preliminary Results

Section 751(a)(2)(B)(iv) of the Tariff Act of 1930, as amended (the Act), and 19 CFR 351.214(i)(1) require the Department to issue the preliminary results of a new shipper review within 180 days after the date on which the review was initiated, and the final results of the review within 90 days after the date on which the preliminary results were issued. However, if the Department concludes that a new shipper review is extraordinarily complicated, section 751(a)(2)(B)(iv) of the Act and 19 CFR 351.214(i)(2) allow the Department to extend the 180-day period to 300 days, and to extend the 90-day period to 150 days. The Department has determined that this new shipper review involves extraordinarily complicated issues, including shipments of subject merchandise through U.S. ports to a third country. Additional time is also required to ensure that the Department can fully examine whether the sale under review is bona fide for the company under review.

Therefore, the Department is extending the deadline for completion of the preliminary results of the new shipper reviews to 280 days, in accordance with section 751(a)(2)(B)(iv) of the Act and 19 CFR 351.214(i)(2). Accordingly, the deadline for the completion of these preliminary results is now no later than November 7, 2011.

This notice is issued and published pursuant to sections 751(a)(3)(A) and 777(i)(1) of the Act.

Dated: July 7, 2011.
Christian Marsh,
Deputy Assistant Secretary for Antidumping and Countervailing Duty Operations.

[FR Doc. 2011-17907 Filed 7-14-11; 8:45 am]

BILLING CODE 3510-DS-P